DEPARTMENT OF COMMERCE

International Trade Administration

Initiation of Antidumping and Countervailing Duty Administrative Reviews and Requests for Revocation in Part

AGENCY: Import Administration, International Trade Administration, Department of Commerce.

ACTION: Notice of initiation of antidumping and countervailing duty administrative reviews and requests for revocation in part.

SUMMARY: The Department of Commerce (the Department) has received requests to conduct administrative reviews of various antidumping and countervailing duty orders and findings with October anniversary dates. In accordance with the Department's regulations, we are initiating those administrative reviews. The Department also received a request to revoke two antidumping duty orders in part.

EFFECTIVE DATE: November 22, 2002.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with October anniversary dates. The Department also received timely requests to revoke in part the antidumping duty orders on Extruded Rubber Thread from Malaysia and Certain Helical Spring Lock Washers from the People's Republic of China.

Initiation of Reviews

In accordance with section 19 CFR 351.221(c)(1)(i), we are initiating administrative reviews of the following antidumping and countervailing duty orders and findings. We intend to issue the final results of these reviews not later than October 31, 2003.

| Period to be reviewed
Antidumping Duty Proceedings
Malaysia: Extruded Rubber Thread, A-557-805 | 10/1/01-9/30/02
Heveafil Sdn. Bhd.
The People's Republic of China: Helical Spring Lock Washers,¹ A-570-822 | 10/1/01-9/30/02
Hang Zhou Spring Washer Plant (aka Zhejiang Wanxin Group Co., Ltd.)
The People's Republic of China: Barium Chloride,² A-570-007 | 10/1/01-9/30/02
China National Chemicals Import and Export Corp.
Zhang Jia Ba Salt Chemical Plant
Tangshan
Tianjin Chemical Industry Corporation
Qingdao Red Star Chemical Group
Linshu
Sichuan Ermeishan Salt Chemical Industry Group Company, Ltd.
Hengnan
Tianjin Buohai Chemical United Import/Export Company
Kunghan
Hebei Xinji Chemical Plant
Countervailing Duty Proceedings
Iran: Roasted In-Shell Pistachios, C-507-601 | 1/1/01-12/31/01
Tehran Negah Nima Trading Company, Inc.'s (dba Nima Trading Company)
Suspension Agreements
None.
¹ If one of the above-named companies does not qualify for a separate rate, all other exporters of helical spring lock washers from the People's Republic of China who have not qualified for a separate rate are deemed to be covered by this review as part of the single PRC entity of which the named exporters are a part.
² If one of the above-named companies does not qualify for a separate rate, all other exporters of barium chloride from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: November 18, 2002.
Holly A. Kuga,
Senior Office Director, Group II, Office 4, Import Administration.

[FR Doc. 02-29790 Filed 11-21-02; 8:45 am]

BILLING CODE 3510-DS-P